Title 3—

The President

Proclamation 7653 of March 14, 2003

National Poison Prevention Week, 2003

By the President of the United States of America

A Proclamation

More than 40 years ago, President John F. Kennedy signed into law National Poison Prevention Week. The annual observance of this week continues to help American families learn how to protect their children from accidental poisonings.

Every year more than one million children under 5 years of age are exposed to poisonous household chemicals and medicines, and an estimated 30 children die as a result of these accidental poisonings. Almost every child poisoning could be prevented. The death of even one child from poisoning is too many and for this reason, Poison Prevention Week Council members representing 37 national organizations coordinate events each year to raise awareness of childhood poisonings and to encourage preventative steps that all Americans can take to protect the lives of our children.

The theme of this year's National Poison Prevention Week, “Children Act Fast . . . So Do Poisons!” reminds parents that they always must be watchful when household chemicals or drugs are stored and used. Many incidents occur when adults are using a product and are distracted for only a brief time. Unfortunately, it only takes a moment for a small child to grab and swallow something that could be poisonous. To guard against these accidents, we must keep medicines and household chemicals locked up, out of sight and reach of young children at all times. The Consumer Product Safety Commission requires child-resistant packaging for certain toxic medicines and chemicals, but it is vital we recognize that the packaging is not “child-proof,” and must be monitored with great care.

When poisoning is suspected, individuals should immediately call the national toll-free number, 1-800-222-1222 to speak to the nearest poison control center. This telephone number and local poison control centers are available 24 hours a day, 7 days a week, and can provide life-saving emergency advice. Regional Poison Control Centers in the United States provide information on recommended treatment for the ingestion of household products and medicines, and parents and those responsible for taking care of children are encouraged to keep the national toll-free number on their telephones. In cases of an emergency, callers should remain calm and provide the Poison Control Center expert with essential information about the victim's age, weight, existing health conditions, and details about the substance that was inhaled, swallowed, or absorbed by the victim. Through our vigilance, we can work together to help stop child poisonings and give every child an opportunity for a bright future.

To encourage Americans to learn more about the dangers of accidental poisonings and to take more preventive measures, the Congress, by joint resolution approved September 26, 1961, as amended (75 Stat. 681), has authorized and requested the President to issue a proclamation designating the third week of March each year as “National Poison Prevention Week.”

NOW, THEREFORE, I, GEORGE W. BUSH, President of the United States of America, do hereby proclaim March 16 through 22, 2003, as National Poison Prevention Week. I call upon all Americans to observe this week by participating in appropriate ceremonies and activities and by learning how to prevent poisonings among children.

IN WITNESS WHEREOF, I have hereunto set my hand this fourteenth day of March, in the year of our Lord two thousand three, and of the Independence of the United States of America the two hundred and twenty-seventh.

B

[FR Doc. 03-6655

Filed 3-17-03; 8:45 am]

Billing code 3195-01-P